DEPARTMENT OF TRANSPORTATION

Federal Aviation Administration

Notice of Permanent Closure

AGENCY: Federal Aviation Administration (FAA), DOT.

ACTION: Notice.

SUMMARY: The Federal Aviation Administration received written notice from the Alaska Department of Transportation (AKDOT) advising that infrastructure associated with Haines, Alaska Seaplane Base (3Z9) is permanently closed.

DATES: The permanent closure of the seaplane base is retroactively effective.

FOR FURTHER INFORMATION CONTACT: Molly Fierro, Compliance Manager, Federal Aviation Administration, Alaskan Region Airports District Office, 222 W 7th Avenue, Anchorage, AK 99513. Telephone Number: (907) 271-5439/FAX Number: (907) 271-2851.

SUPPLEMENTARY INFORMATION: Ownership of infrastructure associated with 3Z9 was transferred to the City of Haines in 2006. Subsequent to the ownership transfer, the harbor was expanded and it is no longer feasible to accommodate floatplane traffic. The FAA hereby retroactively publishes the AKDOTs and City of Haines' notice of permanent closure of the Haines Seaplane Base (3Z9) in accordance with 49 U.S.C. 46319(b).

Issued in Anchorage, Alaska, on February 9, 2021.
Kristi A. Warden,
Director, Airports Division, FAA, Alaskan Region.

[FR Doc. 2021-02967 Filed 2-12-21; 8:45 am]

BILLING CODE 4910-13-P